FEDERAL MINE SAFETY AND HEALTH REVIEW COMMISSION

Meetings; Sunshine Act

February 2, 2009.

TIME AND DATE: 10 a.m., Thursday, February 12, 2009.

PLACE: The Richard V. Backley Hearing Room, 9th Floor, 601 New Jersey Avenue, NW., Washington, DC.

STATUS: Open.

MATTERS TO BE CONSIDERED: The Commission will consider and act upon the following in open session: Secretary of Labor v. SCP Investments, LLC, Docket Nos. SE 2006-148-M and SE 2006-163-M. (Issues include whether the Administrative Law Judge properly concluded that certain citations and orders issued to the operator should be vacated because the MSHA inspector did not allow the operator to exercise any walkaround rights during the inspection in question.)

Any person attending this meeting who requires special accessibility features and/or auxiliary aids, such as sign language interpreters, must inform the Commission in advance of those needs. Subject to 29 CFR 2706.150(a)(3) and 2706.160(d).

FOR FURTHER INFORMATION CONTACT: Jean Ellen (202) 434-9950 / (202) 708-9300 for TDD Relay / 1-800-877-8339 for toll free.

Jean H. Ellen,
Chief Docket Clerk.

[FR Doc. E9-2970 Filed 2-9-09; 11:15 am]

BILLING CODE 6735-01-P